Title 3—

The President

Executive Order 13167 of September 15, 2000

Amendment to Executive Order 13147, Increasing the Membership of the White House Commission on Complementary and Alternative Medicine Policy

By the authority vested in me as President by the Constitution and the laws of the United States of America, including the Federal Advisory Committee Act, as amended (5 U.S.C. App.), and in order to increase the membership of the White House Commission on Complementary and Alternative Medicine Policy from not more than 15 members to up to 20 members, it is hereby ordered that the second sentence of section 1 of Executive Order 13147 of May 7, 2000, is amended by deleting “not more than 15” and inserting “up to 20” in lieu thereof.

wj

THE WHITE HOUSE,

September 15, 2000.

[FR Doc. 00-24364

Filed 9-19-00; 8:45 am]

Billing code 3195-01-P